Proclamation 10929 of May 1, 2025

National Day of Prayer, 2025

By the President of the United States of America

A Proclamation

From the earliest days of our Nation's journey, America has been guided by the grace of Almighty God. Beginning with the opening prayer at the First Continental Congress in 1774, our faith has perpetually stood as the summit of our strength, the source of our unity, and the fount of our greatness. This National Day of Prayer, we thank God for His endless blessings—and we ask Him to grant us fortitude, wisdom, and a renewed spirit of justice as we continue the work to save our country and restore our national promise.

Across every chapter of our grand American story—from General George Washington's humble prayer at Valley Forge to Reverend Billy Graham's legendary rallies in the heart of Manhattan to the somber National Prayer Service in the wake of the September 11, 2001 attacks, our greatest leaders have always recognized the necessity of faith, prayer, and devotion to God. As President Washington famously stated in his seminal Farewell Address, “Of all the dispositions and habits which lead to political prosperity, religion and morality are indispensable supports.”

For these reasons, my Administration is fighting to defend America's longstanding legacy of prayer, faith, and trust in God. As President, I proudly established Task Forces to eradicate religious bias by combatting anti-Semitic, anti-Christian, and additional forms of anti-religious bias. They are charged with the mandate to identify and eliminate all anti-religious policies, practices, and conduct in executive departments and agencies. In addition, I established the White House Faith Office in order to strengthen our families and to protect our religious freedom. I will never waver in safeguarding the right to religious liberty and protecting God in our public square.

Nine months ago on July 13, 2024, my faith took on new meaning. An assassin's bullet came within a quarter of an inch of ending my life. In that instant, as Secret Service crowded around and knocked me to the ground, I felt what seemed to be the supernatural hand of God. I believe that God spared my life for a reason—to save our country and restore America to greatness. It serves as a sacred reminder of our Creator's infinite goodness, guidance, and grace.

Through America's victories and defeats, triumphs and setbacks, and periods of peace and times of war, the divine force of prayer has unfailingly sustained our people, our culture, and our beloved Nation. It was faith that guided our ancestors across turbulent waters to Plymouth Rock. It was faith that inspired our Founding Fathers to put in writing those immortal words, “All men are created equal.” It is faith that freed our Nation from the clutches of tyranny nearly 250 years ago, and it is faith that has rescued our freedom from forces of evil time and time again.

This National Day of Prayer, we recognize that the true strength of the American spirit has always been found in churches, chapels, pews, parishes and synagogues, and the hearts and souls of our citizens of faith. Today and every day, we bow our heads in prayer to thank God for His countless gifts and to ask for His divine protection. Above all, we acknowledge that prayer is the foundation of our past, the guiding hand of our present, and the light of our future.

In 1988, the Congress, by Public Law 100-307, as amended, called on the President to issue each year a proclamation designating the first Thursday in May as a National Day of Prayer, “on which the people of the United States may turn to God in prayer and meditation at churches, in groups, and as individuals.”

NOW, THEREFORE, I, DONALD J. TRUMP, President of the United States of America, do hereby proclaim May 1, 2025, as a National Day of Prayer. I encourage all Americans to observe this day, reflecting on the blessings our Nation has received and the importance of prayer, with appropriate programs, ceremonies, and activities in their houses of worship, communities, and places of work, schools, and homes.

IN WITNESS WHEREOF, I have hereunto set my hand this first day of May, in the year of our Lord two thousand twenty-five, and of the Independence of the United States of America the two hundred and forty-ninth.

[FR Doc. 2025-08132

Filed 5-6-25; 11:15 am]

Billing code 3395-F4-P